DEPARTMENT OF COMMERCE

International Trade Administration

[A-570-601]

Tapered Roller Bearings and Parts Thereof, Finished or Unfinished From the People's Republic of China: Extension of the Time Limit for the Preliminary Results of the Antidumping Duty Administrative Review

AGENCY: Import Administration, International Trade Administration, Department of Commerce.

DATES: March 5, 2012.

FOR FURTHER INFORMATION CONTACT: Brandon Farlander and Erin Kearney, AD/CVD Operations, Import Administration, International Trade Administration, U.S. Department of Commerce, 14th Street and Constitution Avenue NW., Washington, DC 20230, telephone: (202) 482-0182 and (202) 482-0167, respectively.

SUPPLEMENTARY INFORMATION: On July 28, 2011, the Department of Commerce (“the Department”) published in the Federal Register a notice of initiation of an administrative review of the antidumping duty order on tapered roller bearings (“TRBs”) and parts thereof, finished or unfinished from the People's Republic of China. See Initiation of Antidumping and Countervailing Duty Administrative Reviews, Requests for Revocations in Part and Deferral of Administrative Reviews, 76 FR 45227 (July 28, 2011). The period of review (“POR”) is June 1, 2010, through May 31, 2011.

Extension of Time Limit for Preliminary Results

Pursuant to section 751(a)(3)(A) of the Tariff Act of 1930, as amended (the “Act”), the Department shall make a preliminary determination in an administrative review of an antidumping duty order within 245 days after the last day of the anniversary month of the date of publication of the order. However, if it is not practicable to complete the review within this time period, section 751(a)(3)(A) of the Act allows the Department to extend the time period to a maximum of 365 days.

The Department is extending the preliminary results by 120 days because the Department needs additional time to analyze information pertaining to Changshan Peer Bearing Co., Ltd.'s (“CPZ/SKF”) and Peer Bearing Company's (“Peer/SKF”) U.S. sales and factors of production data and issue additional supplemental questionnaires. In addition, prior to the preliminary results, the Department will be conducting a mandatory verification of CPZ/SKF and Peer/SKF. Therefore, in accordance with section 751(a)(3)(A) of the Act, because the Department finds that it is not practicable to complete the review within the original deadlines, the Department is extending the time period for completing the preliminary results of the instant administrative review by 120 days, from March 1, 2012, until June 29, 2012. The final results continue to be due 120 days after the publication of the preliminary results.

This notice is published pursuant to sections 751(a) and 777(i) of the Act.

Dated: February 23, 2012.
Christian Marsh,
Deputy Assistant Secretary for Antidumping and Countervailing Duty Operations.

[FR Doc. 2012-5257 Filed 3-2-12; 8:45 am]

BILLING CODE 3510-DS-P